DEPARTMENT OF COMMERCE

National Oceanic and Atmospheric Administration

RIN 0648-XG929

Endangered and Threatened Species; Take of Anadromous Fish

AGENCY: National Marine Fisheries Service (NMFS), National Oceanic and Atmospheric Administration (NOAA), Commerce.

ACTION: Notice; availability of evaluation of joint state/tribal hatchery plans and request for comment.

SUMMARY: Notice is hereby given that the Washington Department of Fish and Wildlife, the Muckleshoot Tribe, and the Suquamish Tribe have prepared 10 Hatchery and Genetic Management Plans, to be considered jointly, to NMFS pursuant to the limitation on take prohibitions for actions conducted under Limit 6 of the 4(d) Rule for salmon and steelhead promulgated under the Endangered Species Act (ESA). The plans specify the propagation of four species of salmon and steelhead in the Duwamish/Green River basin of Washington State. This document serves to notify the public of the availability for comment of the proposed evaluation and pending determination of the Secretary of Commerce (Secretary) as to whether implementation of the joint plans will appreciably reduce the likelihood of survival and recovery of ESA-listed Puget Sound Chinook salmon and Puget Sound steelhead.

DATES: Comments must be received at the appropriate address (see ADDRESSES) no later than 5:00 p.m. Pacific time on May 2, 2019. Comments received after this date may not be accepted.

ADDRESSES: Written comments on the proposed evaluation and pending determination should be addressed to Charlene Hurst, NMFS Sustainable Fisheries Division, 1201 NE Lloyd Blvd., Suite 1100, Portland, OR 97232. Comments may be submitted by email. The mailbox address for providing email comments is: nmfs.duwamish-green.hatcheries-PEPD@noaa.gov. Include in the subject line of the email comment the following identifier: Comments on Duwamish/Green River hatchery evaluation. The documents are available on the internet at www.westcoast.fisheries.noaa.gov. Comments received will also be available for public inspection, by appointment, during normal business hours by calling (503) 230-5409.

FOR FURTHER INFORMATION CONTACT: Charlene Hurst at (503) 230-5409 or by email at Charlene.n.hurst@noaa.gov.

SUPPLEMENTARY INFORMATION:

ESA-Listed Species Covered in This Notice

Chinook salmon (Oncorhynchus tshawytscha): threatened, naturally produced and artificially propagated Puget Sound.

Steelhead (O. mykiss): threatened, naturally produced and artificially propagated Puget Sound.

Background

The Washington Department of Fish and Wildlife, the Muckleshoot Tribe, and Suquamish Tribe have prepared plans for 10 jointly operated hatchery programs in the Duwamish/Green River region. The plans were submitted from April 2013 to June 2017, pursuant to limit 6 of the 4(d) Rule for ESA-listed salmon and steelhead. The hatchery programs release ESA-listed Chinook salmon and winter steelhead and non-listed coho salmon, fall chum salmon, and summer steelhead into the Duwamish/Green River basin and nearby.

As required by the ESA 4(d) Rule (65 FR 42422, July 10, 2000, as updated in 70 FR 37160, June 28, 2005), the Secretary is seeking public comment on his pending determination as to whether the joint plans for hatchery programs in the Duwamish/Green River basin would appreciably reduce the likelihood of survival and recovery of the ESA-listed Puget Sound salmon and steelhead.

Authority

Under section 4 of the ESA, the Secretary of Commerce is required to adopt such regulations as he deems necessary and advisable for the conservation of species listed as threatened. The ESA salmon and steelhead 4(d) Rule (65 FR 42422, July 10, 2000, as updated in 70 FR 37160, June 28, 2005) specifies categories of activities that contribute to the conservation of listed salmonids and sets out the criteria for such activities. Limit 6 of the updated 4(d) Rule (50 CFR 223.203(b)(6)) further provides that the prohibitions of paragraph (a) of the updated 4(d) Rule (50 CFR 223.203(a)) do not apply to activities associated with a joint state/tribal artificial propagation plan provided that the joint plan has been determined by NMFS to be in accordance with the ESA salmon and steelhead 4(d) Rule.

Dated: March 27, 2019.
Angela Somma,
Chief, Endangered Species Conservation Division, Office of Protected Resources, National Marine Fisheries Service.

[FR Doc. 2019-06317 Filed 4-1-19; 8:45 am]

BILLING CODE 3510-22-P